DEPARTMENT OF ENERGY

Federal Energy Regulatory Commission

[Project No. 13124-002]

Copper Valley Electric Association; Notice of Scoping Document 2 and Soliciting Scoping Comments for an Oirginal Application for License

a. Type of Application: Original License Application.

b. Project No.: 13124-002.

c. Applicant: Copper Valley Electric Association (Copper Valley)

d. Name of Project: Allison Creek Project.

e. Location: On the south side of Port Valdez, on the shore opposite from the community of Valdez, Alaska, near the Alyeska Marine Terminal and the terminus of the Trans Alaska Pipeline System (TAPS) in Township 9 South, Range 6 West, Seward Meridian, Alaska.

f. Filed Pursuant to: Federal Power Act, 16 U.S.C. 791(a)-825(r).

g. Applicant Contact: Robert A. Wilkinson, CEO, Copper Valley Electric Association, P.O. Box 45, Mile 187 Glenn Highway, Glennallen, Alaska 99588, 907-822-3211, allisonlake@cvea.org.

h. FERC Contact: Kim A. Nguyen, phone (202) 502-6105; e-mail at kim.nguyen@ferc.gov.

i. Deadline for filing scoping comments: April 27, 2011. All documents may be filed electronically via the Internet. See, 18 CFR 385.2001(a)(1)(iii) and the instructions on the Commission's Web site at http://www.ferc.gov/docs-filing/efiling.asp. If unable to be filed electronically, documents may be paper-filed. To paper-file, an original and seven copies should be mailed to: Secretary, Federal Energy Regulatory Commission, 888 First Street, NE., Washington, DC 20426. Commenters can submit brief comments up to 6,000 characters, without prior registration, using the eComment system at http://www.ferc.gov/docs-filing/ecomment.asp. You must include your name and contact information at the end of your comments. Please include the project number (P-13124-002) on any comments filed.

j. The proposed project would consist of: (1) A 100-foot by 10-foot diversion structure on Allison Creek; (2) a 7,600-foot-long, 42-inch-diameter buried/above-ground steel pipeline; (3) a 40-foot by 40-foot powerhouse; (4) two 6,500 kilowatt Pelton turbines; (5) a 150-foot-long tailrace; (6) a switchyard; (7) 3.8-mile-long, 34.5 kilovolt transmission line; and (8) appurtenant facilities.

k. On April 7, 2010, Copper Valley filed a Notice of Intent (NOI) to file an application for an original license and requested to use the Commission's Alternative Licensing Process (ALP, which was granted on June 7, 2010. On April 13, 2010, Copper Valley filed a Pre-Application Document (PAD) including a Preliminary Draft Environmental Assessment (PDEA) for the project. Since the filing of the PAD and PDEA, Copper Valley has proposed changes to the project design and has filed a Scoping Document 2 (SD2) describing these modifications and changes to the proposed project. Therefore, we are noticing SD2 and soliciting comments on this new proposal. Under the ALP, Copper Valley plans to file a draft License Application for review and comments in early May 2011, with the final License Application to follow by August 31, 2011.

l. SD2 is available for inspection and reproduction at the Commission's Public Reference Room, located at 888 First Street, NE., Room 2A, Washington, DC 20426, or by calling (202) 502-8371. This filing may also be viewed on the Commission's Web site at http://www.ferc.gov/docs-filing/efiling.asp. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address above.

Dated: March 28, 2011.
Kimberly D. Bose,
Secretary.

[FR Doc. 2011-7780 Filed 4-1-11; 8:45 am]

BILLING CODE 6717-01-P